DEPARTMENT OF COMMERCE

National Oceanic and Atmospheric Administration

[RTID 0648-XB502]

Fisheries of the US Caribbean; Southeast Data, Assessment, and Review (SEDAR); Public Meeting; Cancellation

AGENCY: National Marine Fisheries Service (NMFS), National Oceanic and Atmospheric Administration (NOAA), Commerce.

ACTION: Notice of cancellation of SEDAR 80 workshop webinars for U.S. Caribbean Queen Triggerfish Fishery Topical Working Group.

SUMMARY: The SEDAR 80 assessment process of U.S. Caribbean Queen Triggerfish will consist of a series of webinars.

DATES: The SEDAR 80 US Caribbean Queen Triggerfish Fishery Topical Working Group workshop was to be held via webinar on November 16-18, 2021, from 9 a.m. to 1 p.m. Eastern, each day.

ADDRESSES: Meeting address: The meeting was to be held via webinar.

SEDAR address: 4055 Faber Place Drive, Suite 201, North Charleston, SC 29405.

FOR FURTHER INFORMATION CONTACT: Julie A. Neer, SEDAR Coordinator; (843) 571-4366; email: Julie.neer@safmc.net

SUPPLEMENTARY INFORMATION: The meeting notice published on October 29, 2021 (86 FR 59995). This notice announces that the meeting is cancelled and will be rescheduled at a later date.

Authority: 16 U.S.C. 1801 et seq.

Dated: November 8, 2021.
Tracey L. Thompson,
Acting Deputy Director, Office of Sustainable Fisheries, National Marine Fisheries Service.

[FR Doc. 2021-24716 Filed 11-10-21; 8:45 am]

BILLING CODE 3510-22-P